INTERNATIONAL TRADE COMMISSION

[Investigation No. 337-TA-1065]

Certain Mobile Electronic Devices and Radio Frequency and Processing Components Thereof; Notice of Commission Determination To Amend the Notice of Investigation To Delete Certain Claims That Were Erroneously Included Due to an Apparent Typographical Error

AGENCY: U.S. International Trade Commission.

ACTION: Notice.

SUMMARY: Notice is hereby given that the U.S. International Trade Commission has determined sua sponte to amend the notice of investigation to delete claims 2-9 of U.S. Patent No. 8,633,936 (“the '936 patent”), which were erroneously included due to a typographical error.

FOR FURTHER INFORMATION CONTACT: Panyin A. Hughes, Office of the General Counsel, U.S. International Trade Commission, 500 E Street SW, Washington, DC 20436, telephone (202) 205-3042. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on August 14, 2017, based on a complaint filed by Qualcomm Incorporated of San Diego, California (“Qualcomm”). 82 FR 37899 (Aug. 14, 2017). The complaint alleges violations of section 337 of the Tariff Act of 1930 (19 U.S.C. 1337) in the importation into the United States, the sale for importation, and the sale within the United States after importation of certain mobile electronic devices and radio frequency and processing components thereof that infringe one or more claims of U.S. Patent No. 8,487,658; U.S. Patent No. 8,698,558; U.S. Patent No. 8,487,658; U.S. Patent No. 8,838,949; U.S. Patent No. 9,535,490; U.S. Patent No. 9,608,675; and the '936 patent. The notice of investigation named Apple Inc. of Cupertino, California as the respondent. The Office of Unfair Import Investigations is participating in the investigation.

The complaint, as amended, states that Qualcomm alleges infringement of claims 1, 10-27, 29, 38, 49, 55-60, 67, and 68 of the '936 patent. The notice of investigation, however, lists the asserted claims of the '936 patent as claims 1-27, 29, 38, 49, 55-60, 67, and 68. Under Commission Rule 210.14(b) (19 CFR 210.14(b)), good cause exists to amend the notice of investigation to correct this typographical error.

The authority for the Commission's determination is contained in section 337 of the Tariff Act of 1930, as amended (19 U.S.C. 1337), and in Part 210 of the Commission's Rules of Practice and Procedure (19 CFR part 210).

By order of the Commission.
Issued: May 3, 2018.
Katherine Hiner,
Supervisory Attorney.

[FR Doc. 2018-09818 Filed 5-8-18; 8:45 am]

BILLING CODE 7020-02-P